DEPARTMENT OF ENERGY

Federal Energy Regulatory Commission

[Docket No. RM10-13-000]

Credit Reforms in Organized Wholesale Electric Markets; Notice Establishing Date for Comments

May 12, 2010.

On May 11, 2010, Commission staff convened a technical conference related to the Commission's Notice of Proposed Rulemaking on Credit Reforms in Organized Wholesale Electric Markets.¹ Specifically, the technical conference addressed the proposal in the Credit Reforms NOPR regarding whether Independent System Operators/Regional Transmission Operators should adopt tariff revisions to clarify their status as a counterparty to transactions in their markets

¹ Credit Reforms in Organized Wholesale Electric Markets, 130 FERC ¶ 61,055 (2010) (Credit Reforms NOPR).

Entities wishing to submit further, written comments regarding the counterparty proposal discussed at the technical conference should submit their comments in this docket on or before June 8, 2010.

Kimberly D. Bose,
Secretary.

[FR Doc. 2010-11908 Filed 5-18-10; 8:45 am]

BILLING CODE 6717-01-P